DEPARTMENT OF TRANSPORTATION

Federal Aviation Administration

Notice of Intent To Rule on Request To Release Airport Property at the South Valley Regional Airport, Salt Lake City, UT

AGENCY: Federal Aviation Administration (FAA), DOT.

ACTION: Notice and request for comment.

SUMMARY: The FAA proposes to rule and invite public comment on the release of land at the South Valley Regional Airport, Salt Lake City, UT.

DATES: Comments must be received on or before May 7, 2018.

ADDRESSES: Comments on this application may be mailed or delivered to the FAA at the following address: Mr. John P. Bauer, Manager, Federal Aviation Administration, Northwest Mountain Region, Airports Division, Denver Airports District Office, 26805 E 68th Avenue, Suite 224, Denver, CO 80249-6361.

In addition, one copy of any comments submitted to the FAA must be mailed or delivered to Mr. Joel Nelson, Salt Lake City Department of Airports, Salt Lake City, UT, at the following address: Mr. Joel Nelson, Airport Property and Real Estate Manager, Salt Lake City Department of Airports, P.O. Box 145550, Salt Lake City, UT 84114.

FOR FURTHER INFORMATION CONTACT: Mr. Marc Miller, Colorado State Engineer/Compliance Specialist, Federal Aviation Administration, Northwest Mountain Region, Denver Airports District Office, 26805 E 68th Avenue, Suite 224, Denver, CO 80249-6361, (303) 342-1282.

The request to release property may be reviewed, by appointment, in person at this same location.

SUPPLEMENTARY INFORMATION: The FAA invites public comment on the request to release property at the South Valley Regional Airport under the provisions of the AIR 21 (49 U.S.C. 47107(h)(2)).

On March 23, 2018, the FAA determined that the request to release property at the South Valley Regional Airport submitted by the Salt Lake City Department of Airports meets the procedural requirements of the Federal Aviation Administration.

The following is a brief overview of the request:

The Salt Lake City Department of Airports is proposing the release from the terms, conditions, reservations, and restrictions on approximately 4.26 acres of federally obligated land at the South Valley Regional Airport. A small portion of the New Bingham Highway will be re-routed from inside of the Runway Protection Zone (RPZ) to the outside and west of the RPZ. This portion of the New Bingham Highway, now inside the RPZ, will be vacated and turned over to airport ownership and maintenance. An additional action is to improve and widen the existing 7800 South Right-of-way. Slivers of land will be needed to accommodate the proposed street widening improvements through this area (0.903 acres) and is included in the overall land release request.

The property release conveyance will include appropriate continuing right of flight and continuing restriction clauses that will prohibit any activity on the land that would interfere with or be a hazard to the flight of aircraft over the land or to and from the airport, or that interferes with air navigation and communications facilities serving the airport.

Any person may inspect, by appointment, the request in person at the FAA office listed above under FOR FURTHER INFORMATION CONTACT.

In addition, any person may, upon appointment and request, inspect the application, notice and other documents germane to the application in person at the Salt Lake City Department of Airports.

Issued in Denver, CO on March 23, 2018.
John P. Bauer,
Manager, Denver Airports District Office.

[FR Doc. 2018-06998 Filed 4-4-18; 8:45 am]

BILLING CODE 4910-13-P